INTERNATIONAL TRADE COMMISSION

[USITC SE-18-025]

Government in the Sunshine Act Meeting Notice

AGENCY HOLDING THE MEETING: United States International Trade Commission.

TIME AND DATE: May 31, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-606 and 731-TA-1416 (Preliminary) (Quartz Surface Products from China). The Commission is currently scheduled to complete and file its determinations on June 1, 2018; views of the Commission are currently scheduled to be completed and filed on June 8, 2018.

5. Vote on Inv. No. 731-TA-860 (Third Review) (Tin- and Chromium-Coated Steel Sheet from Japan). The Commission is currently scheduled to complete and file its determination and views of the Commission by June 19, 2018.

6. Outstanding action jackets: None.

In accordance with Commission policy, subject matter listed above, not disposed of at the scheduled meeting, may be carried over to the agenda of the following meeting.

By order of the Commission.
Issued: May 22, 2018.
William Bishop,
Supervisory Hearings and Information Officer.

[FR Doc. 2018-11444 Filed 5-23-18; 4:15 pm]

BILLING CODE 7020-02-P